DEPARTMENT OF ENERGY

Federal Energy Regulatory Commission

Combined Notice of Filings #1

November 14, 2024.

Take notice that the Commission received the following exempt wholesale generator filings:

Docket Numbers: EG25-32-000.

Applicants: Richland Township Solar II, LLC.

Description: Richland Township Solar II, LLC submits Notice of Self-Certification of Exempt Wholesale Generator Status.

Filed Date: 11/14/24.

Accession Number: 20241114-5087.

Comment Date: 5 p.m. ET 12/5/24.

Docket Numbers: EG25-33-000.

Applicants: BCD 2024 Fund 4 II Lessee, LLC.

Description: BCD 2024 Fund 4 II Lessee, LLC submits Notice of Self-Certification of Exempt Wholesale Generator Status.

Filed Date: 11/14/24.

Accession Number: 20241114-5090.

Comment Date: 5 p.m. ET 12/5/24.

Take notice that the Commission received the following electric rate filings:

Docket Numbers: ER22-2304-001.

Applicants: Nevada Power Company.

Description: Compliance filing: NPC Transmission Line Ratings Compliance to be effective N/A.

Filed Date: 11/13/24.

Accession Number: 20241113-5135.

Comment Date: 5 p.m. ET 12/4/24.

Docket Numbers: ER24-1655-000.

Applicants: New York Independent System Operator, Inc.

Description: Motion to defer effective date and request for waiver of New York Independent System Operator, Inc. regarding fast-start resource scheduling.

Filed Date: 11/12/24.

Accession Number: 20241112-5420.

Comment Date: 5 p.m. ET 12/3/24.

Docket Numbers: ER24-2566-002.

Applicants: Northern States Power Company, a Minnesota corporation.

Description: Tariff Amendment: 2024-11-14 CapX Brookings OMA—537—Deferral of Action to be effective 12/31/9998.

Filed Date: 11/14/24.

Accession Number: 20241114-5094.

Comment Date: 5 p.m. ET 12/5/24.

Docket Numbers: ER24-2566-003.

Applicants: Northern States Power Company, a Minnesota corporation.

Description: Tariff Amendment: 2024-11-14 CapX Brookings CMA—757—Errata to be effective 6/21/2024.

Filed Date: 11/14/24.

Accession Number: 20241114-5127.

Comment Date: 5 p.m. ET 12/5/24.

Docket Numbers: ER24-2567-002.

Applicants: Northern States Power Company, a Minnesota corporation.

Description: Tariff Amendment: 2024-11-14 CapX Brookings OMA—537—Deferral of Action—Update to be effective 12/31/9998.

Filed Date: 11/14/24.

Accession Number: 20241114-5186.

Comment Date: 5 p.m. ET 12/5/24.

Docket Numbers: ER24-2568-002.

Applicants: Northern States Power Company, a Minnesota corporation.

Description: Tariff Amendment: 2024-11-14 CapX Brookings TCEA—538—Errata to be effective 6/21/2024.

Filed Date: 11/14/24.

Accession Number: 20241114-5119.

Comment Date: 5 p.m. ET 12/5/24.

Docket Numbers: ER24-2601-003.

Applicants: Louise Solar Project, LLC.

Description: Tariff Amendment: Response to Deficiency Filing to be effective 8/15/2024.

Filed Date: 11/14/24.

Accession Number: 20241114-5097.

Comment Date: 5 p.m. ET 12/5/24.

Docket Numbers: ER24-2602-002.

Applicants: Fillmore County Solar Project, LLC.

Description: Tariff Amendment: Response to Deficiency Filing to be effective 9/1/2024.

Filed Date: 11/14/24.

Accession Number: 20241114-5093.

Comment Date: 5 p.m. ET 12/5/24.

Docket Numbers: ER24-2837-001.

Applicants: Unbridled Solar, LLC.

Description: Tariff Amendment: Response to Deficiency Filing to be effective 8/23/2024.

Filed Date: 11/14/24.

Accession Number: 20241114-5099.

Comment Date: 5 p.m. ET 12/5/24.

Docket Numbers: ER24-3057-000.

Applicants: Kearsarge Riverpark I LLC.

Description: Supplement to 09/16/2024 Kearsarge Riverpark I LLC tariff filing.

Filed Date: 11/14/24.

Accession Number: 20241114-5176.

Comment Date: 5 p.m. ET 12/5/24.

Docket Numbers: ER25-425-000.

Applicants: PJM Interconnection, L.L.C.

Description: § 205(d) Rate Filing: Original NSA, Service Agreement No. 7394; AD1-128 to be effective 1/14/2025.

Filed Date: 11/14/24.

Accession Number: 20241114-5044.

Comment Date: 5 p.m. ET 12/5/24.

Docket Numbers: ER25-426-000.

Applicants: Southwest Power Pool, Inc.

Description: Tariff Amendment: 3979 Ponderosa Wind II GIA Cancellation to be effective 11/7/2024.

Filed Date: 11/14/24.

Accession Number: 20241114-5047.

Comment Date: 5 p.m. ET 12/5/24.

Docket Numbers: ER25-427-000.

Applicants: PJM Interconnection, L.L.C.

Description: Tariff Amendment: Notice of Cancellation—WMPA Service Agreement No. 5977; Queue No. AF2-161 to be effective 1/14/2025.

Filed Date: 11/14/24.

Accession Number: 20241114-5050.

Comment Date: 5 p.m. ET 12/5/24.

Docket Numbers: ER25-428-000.

Applicants: Southern California Edison Company.

Description: § 205(d) Rate Filing: 1st Amend LGIA, Coso Navy 2 et al. (TOT274 & TOT275-SA262) to be effective 11/15/2024.

Filed Date: 11/14/24.

Accession Number: 20241114-5052.

Comment Date: 5 p.m. ET 12/5/24.

Docket Numbers: ER25-429-000.

Applicants: ISO New England Inc., Eversource Energy Service Company (as agent).

Description: § 205(d) Rate Filing: ISO New England Inc. submits tariff filing per 35.13(a)(2)(iii: LSA NSTAR-001 West Springfield Local Service Agreement to be effective 10/15/2024.

Filed Date: 11/14/24.

Accession Number: 20241114-5054.

Comment Date: 5 p.m. ET 12/5/24.

Docket Numbers: ER25-430-000.

Applicants: PJM Interconnection, L.L.C.

Description: Tariff Amendment: Notice of Cancellation—WMPA Service Agreement No. 5841; Queue No. AF2-151 to be effective 1/14/2025.

Filed Date: 11/14/24.

Accession Number: 20241114-5063.

Comment Date: 5 p.m. ET 12/5/24.

Docket Numbers: ER25-431-000.

Applicants: PacifiCorp.

Description: Tariff Amendment: Notice of Termination (RS No. 782) to be effective 1/14/2025.

Filed Date: 11/14/24.

Accession Number: 20241114-5065.

Comment Date: 5 p.m. ET 12/5/24.

Docket Numbers: ER25-432-000.

Applicants: Campo Verde Solar, LLC.

Description: Initial rate filing: Liebert Shared Facilities Agreement and Request for Waivers to be effective 11/15/2024.

Filed Date: 11/14/24.

Accession Number: 20241114-5069.

Comment Date: 5 p.m. ET 12/5/24.

Docket Numbers: ER25-433-000.

Applicants: Arizona Public Service Company.

Description: § 205(d) Rate Filing: Service Agreement No. 428, Fria Grid E&P Agreement to be effective 10/17/2024.

Filed Date: 11/14/24.

Accession Number: 20241114-5074.

Comment Date: 5 p.m. ET 12/5/24.

Docket Numbers: ER25-434-000.

Applicants: Midcontinent Independent System Operator, Inc., Citizens Electric Corporation, Ameren Services Company.

Description: § 205(d) Rate Filing: Midcontinent Independent System Operator, Inc. submits tariff filing per 35.13(a)(2)(iii: 2024-11-14_Amended JPZ Agreement RE Integration of Citizens Electric Corporation to be effective 1/1/2025.

Filed Date: 11/14/24.

Accession Number: 20241114-5103.

Comment Date: 5 p.m. ET 12/5/24.

Docket Numbers: ER25-435-000.

Applicants: Tri-State Generation and Transmission Association, Inc.

Description: Informational Filing of 2024 Formula Rate Annual Update of Tri-State Generation and Transmission Association, Inc.

Filed Date: 11/13/24.

Accession Number: 20241113-5155.

Comment Date: 5 p.m. ET 12/4/24.

Docket Numbers: ER25-436-000.

Applicants: Southern California Edison Company.

Description: § 205(d) Rate Filing: 1st Amend LGIA, Navy 1—Cancel eTariff Record (TOT273-SA104) to be effective 11/15/2024.

Filed Date: 11/14/24.

Accession Number: 20241114-5106.

Comment Date: 5 p.m. ET 12/5/24.

Docket Numbers: ER25-437-000.

Applicants: California Independent System Operator Corporation.

Description: § 205(d) Rate Filing: 2024-11-14 EDAM Access Charge for the CAISO BAA to be effective 12/31/9998.

Filed Date: 11/14/24.

Accession Number: 20241114-5132.

Comment Date: 5 p.m. ET 12/5/24.

Docket Numbers: ER25-438-000.

Applicants: Midcontinent Independent System Operator, Inc., Ameren Illinois Company.

Description: § 205(d) Rate Filing: Midcontinent Independent System Operator, Inc. submits tariff filing per 35.13(a)(2)(iii: 2024-11-14_SA 4393 and SA 4394_Ameren IL-Newton WCA and UCA to be effective 1/14/2025.

Filed Date: 11/14/24.

Accession Number: 20241114-5141.

Comment Date: 5 p.m. ET 12/5/24.

Docket Numbers: ER25-439-000.

Applicants: Oiko Energy Inc.

Description: Baseline eTariff Filing: FERC Electric MBR Tariff to be effective 12/31/2024.

Filed Date: 11/14/24.

Accession Number: 20241114-5207.

Comment Date: 5 p.m. ET 12/5/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 14, 2024.
Carlos D. Clay,
Acting Deputy Secretary.

[FR Doc. 2024-27142 Filed 11-20-24; 8:45 am]

BILLING CODE 6717-01-P